DEPARTMENT OF HEALTH AND HUMAN SERVICES

Centers for Disease Control and Prevention

[30Day-11-0679]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an e-mail to omb@cdc.gov. Send written comments to CDC Desk Officer, Office of Management and Budget, Washington, DC or by fax to (202) 395-5806. Written comments should be received within 30 days of this notice.

Proposed Project

Division of Heart Disease and Stroke Prevention Management Information System—Revision—National Center for Chronic Disease Prevention and Health Promotion (NCCDPHP), Centers for Disease Control and Prevention (CDC).

Background and Brief Description

CDC's Division of Heart Disease and Stroke Prevention (DHDSP) is currently approved to collect progress and activity information from awardees funded through two programs: The National Heart Disease and Stroke Prevention Program (NHDSPP), and the Well-Integrated Screening and Evaluation for Women Across the Nation (WISEWOMAN) program. Information is collected semi-annually through an electronic Management Information System (MIS). The current approval is scheduled to expire 5/31/2011 (OMB No. 0920-0679).

CDC requests OMB approval to continue information collection, with changes, for three years. A net reduction in the number of respondents will result in a net reduction in burden hours. Although there will be an increase in the number of awardees funded for State-based heart disease and stroke prevention (HDSP) programs, reporting requirements involving the MIS will be discontinued for awardees funded through the WISEWOMAN program. No changes are proposed to the information collection instrument, the burden per response, or the frequency of information collection.

CDC currently supports population-based heart disease and stroke prevention efforts in selected States and the District of Columbia. As funding allows, CDC's strategic plan calls for expanding the program to health departments in all U.S. States and territories. CDC works with HDSP program awardees to implement and evaluate evidence-based public health prevention and control strategies that address risk factors and reduce disparities, disease, disability, and death from heart disease and stroke.

The DHDSP MIS provides a standardized, electronic interface for the collection of progress and activity information from HDSP awardees. The information collection includes work plans, objectives, partners, data sources, and policy and environmental assessments. The MIS produces both State-specific and aggregate reports that are used for performance monitoring, program evaluation, and technical assistance. The monitoring and evaluation plan for HDSP awardees is part of an overall initiative within CDC's National Center for Chronic Disease Prevention and Health Promotion (NCCDPHP) to promote more efficient ways of using resources and achieving greater health impact.

CDC will continue to use the information collected through the DHDSP MIS to identify State-specific heart disease and stroke prevention priorities and objectives, and to describe the impact and reach of program interventions. Respondents will be 42 health departments in 41 States and the District of Columbia (DC). Respondents will continue to submit their progress and activity information to CDC semi-annually. There are no costs to respondents other than their time. The total estimated annualized burden hours are 504.

Estimated annualized burden hours

Respondents | Number of respondents | Number of responses per respondent | Average burden per response (in hours)
State-Based Heart Disease and Stroke Prevention Programs | 42 | 2 | 6

Dated: February 22, 2011.
Carol Walker,
Acting Reports Clearance Officer, Centers for Disease Control and Prevention.

[FR Doc. 2011-4330 Filed 2-25-11; 8:45 am]

BILLING CODE 4163-18-P